ENVIRONMENTAL PROTECTION AGENCY

40 CFR Part 300

[EPA-HQ-SFUND-1989-0009; FRL-9957-30-Region 3]

National Oil and Hazardous Substances Pollution Contingency Plan; National Priorities List: Partial Deletion of the North Penn Area 6 Superfund Site

AGENCY: Environmental Protection Agency.

ACTION: Proposed rule; Notice of intent for partial deletion of the North Penn Area 6 Superfund Site from the National Priorities List.

SUMMARY: The Environmental Protection Agency (EPA) Region III is issuing a Notice of Intent to Delete a portion of the North Penn Area 6 Superfund Site (Site) located in Lansdale Borough, Montgomery County, Pennsylvania, from the National Priorities List (NPL). The proposed deletion affects approximately 6.5 acres at 135 East Hancock Street (the “Administrative Parcel”), and EPA requests public comments on this proposed action. The NPL, promulgated pursuant to section 105 of the Comprehensive Environmental Response, Compensation, and Liability Act (CERCLA) of 1980, as amended, is found at Appendix B of the National Oil and Hazardous Substances Pollution Contingency Plan (NCP). The EPA and the Commonwealth of Pennsylvania, through the Pennsylvania Department of Environmental Protection (PADEP), have determined that all appropriate response actions under CERCLA, other than five-year reviews, have been completed at the Administrative Parcel. However, this partial deletion does not preclude future actions at the Administrative Parcel under Superfund.

This partial deletion pertains only to the soils and groundwater of the approximately 6.5 acre Administrative Parcel portion of the Site. The other portions of the Site will remain on the NPL, and are not being considered for deletion as part of this action.

DATES: Comments must be received by January 23, 2017.

ADDRESSES: Submit your comments, identified by Docket ID no. EPA-HQ-SFUND-1989-0009, by mail to Huu Ngo (3HS21), U.S. Environmental Protection Agency, 1650 Arch Street, Philadelphia, PA 19103-2029. Comments may also be submitted electronically or through hand delivery/courier by following the detailed instructions in the ADDRESSES section of the direct final rule located in the “Rules and Regulations” section of this Federal Register.

FOR FURTHER INFORMATION CONTACT: Huu Ngo, Remedial Project Manager (3HS21), U.S. Environmental Protection Agency, Region III, 1650 Arch Street, Philadelphia, PA 19103-2029; (215) 814-3187; email: ngo.huu@epa.gov.

SUPPLEMENTARY INFORMATION:

In the “Rules and Regulations” Section of today's Federal Register, we are publishing a direct final Notice of Partial Deletion of the Administrative Parcel of the North Penn Area 6 Superfund Site without prior Notice of Intent for Partial Deletion because EPA views this as a noncontroversial revision and anticipates no adverse comment. We have explained our reasons for this partial deletion in the preamble to the direct final Notice of Partial Deletion, and those reasons are incorporated herein. If we receive no adverse comment(s) on this partial deletion action, we will not take further action on this Notice of Intent for Partial Deletion. If we receive adverse comment(s), we will withdraw the direct final Notice of Partial Deletion and it will not take effect. We will, as appropriate, address all public comments in a subsequent final Notice of Partial Deletion based on this Notice of Intent for Partial Deletion. We will not institute a second comment period on this Notice of Intent for Partial Deletion. Any parties interested in commenting must do so at this time.

For additional information, see the direct final Notice of Partial Deletion, which is located in the “Rules” section of this Federal Register.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923, 3 CFR, 1987 Comp., p. 193.

Dated: December 5, 2016.
Cecil Rodrigues,
Acting Regional Administrator, Region III.

[FR Doc. 2016-31016 Filed 12-22-16; 8:45 am]

BILLING CODE 6560-50-P